DEPARTMENT OF COMMERCE

International Trade Administration

[A-570-803]

Notice of Final Results and Partial Recission of Antidumping Duty Administrative Reviews: Heavy Forged Hand Tools From the People's Republic of China

AGENCY: Import Administration, International Trade Administration, Department of Commerce.

ACTION: Notice of Final Results of Antidumping Duty Administrative Reviews.

SUMMARY: On March 8, 2000, the Department of Commerce (“the Department”) published the preliminary results of the administrative reviews of the antidumping duty orders on heavy forged hand tools (“HFHTs”) from the People's Republic of China (65 FR 12202). The reviews cover five manufacturer/exporters, Fujian Machinery & Equipment Import & Export Corporation (“FMEC”), Liaoning Machinery Import & Export Corporation (“LMC”), Shandong Machinery Import & Export Corporation (“SMC”), Shandong Huarong General Group Corporation (“Shandong Huarong”), and Tianjin Machinery Import & Export Corporation (“TMC”). The period of review (“POR”) is February 1, 1998 through January 31, 1999.

The final weighted-average dumping margins for the reviewed firms are listed below in the section entitled “Final Results of the Reviews.” The final margins differ from those published in the preliminary results due to changes that we made since the preliminary results. For details regarding these changes, see the section of the notice entitled “Changes Since the Preliminary Results of the Reviews.”

EFFECTIVE DATE: July 13, 2000.

FOR FURTHER INFORMATION CONTACT: Lyman Armstrong or James Terpstra, AD/CVD Enforcement Group II, Office IV, Import Administration, International Trade Administration, U.S. Department of Commerce, 14th Street and Constitution Avenue, NW, Washington, DC 20230; telephone (202) 482-3601 or (202) 482-3965 respectively.

SUPPLEMENTARY INFORMATION:

Applicable Statute

Unless otherwise indicated, all citations to the statute are references to the provisions effective January 1, 1995, the effective date of the amendments made to the Tariff Act of 1930 (“the Act”) by the Uruguay Round Agreements Act (“URAA”). In addition, unless otherwise indicated, all citations to the Department's regulations are to the current regulations at 19 CFR part 351 (1998).

Background

Since the publication of the preliminary results, the following events have occurred. The Department issued supplemental questionnaires to TMC, LMC, and Shandong Huarong on March 9, 2000, and received responses to those questionnaires on March 17, 2000, and March 20, 2000. On March 28, 2000, and April 3, 2000, the respondents submitted publicly available information and comments regarding factor valuation. In response to the Department's invitation to comment on the preliminary results of these reviews, the respondents filed case briefs on April 10, 2000, and the petitioner filed a rebuttal brief on April 14, 2000. The respondents requested a public hearing on March 28, 2000 and a public hearing was held on April 19, 2000.

The Department has conducted these administrative reviews in accordance with section 751 of the Act.

Partial Recission

At the preliminary results of these reviews, we preliminarily rescinded the reviews of Shandong Huarong with respect to hammers/sledges and picks/mattocks, and for LMC with respect to hammers/sledges, picks/mattocks, and axes/adzes classes because they had no shipments of products in these classes or kinds of merchandise. We have received no comment on this from interested parties, nor has any additional information been put on the record in these reviews. Therefore, we are making these rescissions final.

Scope of Reviews

Imports covered by these reviews are shipments of HFHTs from the PRC comprising the following classes or kinds of merchandise: (1) Hammers and sledges with heads over 1.5 kg (3.33 pounds) (hammers/sledges); (2) bars over 18 inches in length, track tools and wedges (bars/wedges); (3) picks/mattocks; and (4) axes/adzes.

HFHTs include heads for drilling, hammers, sledges, axes, mauls, picks, and mattocks, which may or may not be painted, which may or may not be finished, or which may or may not be imported with handles; assorted bar products and track tools including wrecking bars, digging bars and tampers; and steel wood splitting wedges. HFHTs are manufactured through a hot forge operation in which steel is sheared to required length, heated to forging temperature, and formed to final shape on forging equipment using dies specific to the desired product shape and size. Depending on the product, finishing operations may include shot-blasting, grinding, polishing and painting, and the insertion of handles for handled products. HFHTs are currently classifiable under the following Harmonized Tariff Schedule (HTS) subheadings: 8205.20.60, 8205.59.30, 8201.30.00, and 8201.40.60. Specifically excluded are hammers and sledges with heads 1.5 kg (3.33 pounds) in weight and under, hoes and rakes, and bars 18 inches in length and under. Although the HTS subheadings are provided for convenience and Customs purposes, our written description of the scope of these orders is dispositive.

Verification

As provided in section 782(i) of the Act, we conducted verifications of the information provided by the trading companies SMC and TMC, as well as the information provided by their suppliers (the manufacturers of the subject merchandise). We used standard verification procedures including on-site inspection of the manufacturers' facilities, examination of relevant sales and financial records, and selection of relevant source documentation as exhibits. Our verification findings are detailed in the memoranda dated February 28, 2000, the public versions of which are on file in the Central Records Unit, Room B099 of the Main Commerce building (CRU-Public File). See SMC's Sales Verification Report (February 28, 2000), TMC's Sales Verification Report (February 28, 2000), SMC's Cost Verification Report (February 28, 2000), and TMC's Cost Verification Report (February 28, 2000).

Use of Facts Available

At the preliminary results of these reviews, we applied adverse facts available to Shandong Huarong with respect to axes/adzes; and to the PRC-wide entity (including FMEC) with respect to hammers/sledges, picks/mattocks, bars/wedges, and axes/adzes because they failed to provide certain information that was requested by the Department. We have received no comment on this issue from interested parties, nor has any additional information been put on the record in these reviews. Therefore, for the reasons stated in the preliminary results, we are using adverse facts available for Shandong Huarong with respect to the axes/adzes class or kind of merchandise and for the PRC-wide entity for all classes or kinds of subject merchandise for these final results. See the “Facts Available” section of the Department's “Issues and Decision Memorandum” (“Decision Memorandum”) from Holly A. Kuga, Acting Deputy Assistant Secretary, Important Administration, to Troy H. Cribb, Acting Assistant Secretary for Import Administration, dated July 6, 2000.

For a discussion of our use of facts available in regards to SMC, see Comments 1, 2 and 3 of the Decision Memorandum.

Corroboration

Section 776(c) of the Act provides that when the Department selects from among the facts otherwise available and relies on “secondary information,” the Department shall, to the extent practicable, corroborate that information from independent sources reasonably at the Department's disposal. The Statement of Administrative Action (SAA) (H.R. Doc. 103-316 (2nd Sess. 1994)) states that “corroborate” means to determine that the information used has probative value. See SAA at 870. To corroborate secondary information, the Department will, to the extent practicable, examine the reliability and relevance of the information to be used. However, unlike other types of information, such as input costs or selling expenses, there are no independent sources for calculated dumping margins. The only source for margins is administrative determinations. Thus, in an administrative review, if the Department chooses as total adverse facts available a calculated dumping margin from a prior segment of the proceeding, it is not necessary to question the reliability of the margin for that time period. See Grain-Oriented Electrical Steel From Italy; Preliminary Results of Antidumping Duty Administrative Review, 61 FR 36551, 36552 (July 11, 1996). With respect to the relevance aspect of corroboration, however, the Department will consider information reasonably at its disposal to determine whether a margin continues to have relevance. Accordingly, for each class or kind of HFHTs for which we have resorted to adverse facts available, we have used the highest margin from this or any prior segment of the proceeding as the margin for these final results because there is no evidence on the record indicating that such margins are not appropriate as adverse facts available.

Analysis of Comments Received

All issues raised in the case and rebuttal briefs by parties to these administrative reviews are addressed in the Decision Memorandum, which is hereby adopted by this notice. A list of the issues which parties have raised and to which we have responded, all of which are in the Decision Memorandum, is attached to this notice as an Appendix. Parties will find a complete discussion of all issues raised in these reviews and the corresponding recommendations in this public memorandum which is on file in the CRU-Public File. In addition a complete version of the Decision Memorandum can be accessed directly on the Web at www.ia.ita.doc.gov/frn/. The paper copy and electronic version of the Decision Memorandum are identical in content.

Changes Since the Preliminary Results of the Reviews

The Department, at verification, found certain errors in TMC's reported consumption of paint, electricity, packing materials, and coal. See TMC's Cost Verification Report (February 28, 2000) at 2. In addition, the Department made clerical errors in calculating the surrogate values for steel scrap, pallets, inland and ocean freight. The Department corrected for the errors in these final results of these administrative reviews. See TMC's Final Calculation Memorandum (July 06, 2000); see also LMC's Final Calculation Memorandum (July 06, 2000); see also Shandong Huarong's Final Calculation Memorandum (July 06, 2000). No other changes were made to our margin calculation programs.

Final Results of the Reviews

We determine that the following percentage weighted-average margins exist for the period February 1, 1999, through January 31, 1999:

Manufacturer/exporter | Margin (percent)
Shandong Huarong General Group Corporation:
Axes/Adzes | 41.12
Bars/Wedges | 23.99
Liaoning Machinery Import & Export Corporation:
Bars/Wedges | 17.91
Tianjin Machinery Import & Export Corporation:
Axes/Adzes | 41.12
Bars/Wedges | 91.45
Hammers/Sledges | 32.51
Picks/Mattocks | 2.34
Shandong Machinery Import & Export Corporation:
Axes/Adzes | 41.12
Bars/Wedges | 91.45
Hammers/Sledges | 32.51
Picks/Mattocks | 98.77
PRC-wide rates:
Axes/Adzes | 41.12
Bars/Wedges | 91.45
Hammers/Sledges | 32.51
Picks/Mattocks | 98.77

The Department shall determine, and Customs shall assess, antidumping duties on all appropriate entries. In accordance with 19 CFR 351.212(b), we have calculated an importer-specific duty assessment rate. With respect to both export price and constructed export price sales, we divided total dumping margins for the reviewed sales by the total entered value of those reviewed sales for each importer. We will direct Customs to assess the resulting percentage margins against the entered Customs values for the subject merchandise on each of that importer's entries under the order during the review period.

Cash Deposit Requirements

The following deposit requirements will be effective upon publication of this notice of final results of administrative reviews for all shipments of HFHTs from the PRC entered, or withdrawn from warehouse, for consumption on or after the date of publication, as provided by section 751(a)(1) of the Act: (1) The cash deposit rates for the reviewed companies will be the rates shown above; (2) for companies previously found to be entitled to a company-specific rate and for which no review was requested, the cash deposit rates will continue to be the company-specific rates published for the most recent period reviewed; (3) for all other PRC exporters of subject merchandise, the cash deposit rates will be the PRC country-wide rate indicated above; and (4) the cash deposit rate for non-PRC exporters of subject merchandise from the PRC will be the rates applicable to the PRC supplier of that exporter. These deposit requirements shall remain in effect until publication of the final results of the next administrative reviews.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective orders (“APOs”) of their responsibility concerning the return or destruction of proprietary information disclosed under an APO in accordance with 19 CFR 351.305 or conversion to judicial protective order is hereby requested. Failure to comply with the regulations and terms of an APO is a violation which is subject to sanction.

We are issuing and publishing these determinations and this notice in accordance with sections section 751(a)(1) and 771(i) of the Act.

Dated: July 6, 2000.
Troy H. Cribb,
Acting Assistant Secretary for Import Administration.

Appendix—Issues in Decision Memorandum Comments and Responses

1. Whether Shandong Machinery Import & Export Company (“SMC”) Failed Verification for Hammers/Sledges

2. Whether the Application of Adverse Facts Available is Warranted for SMC's Sales of Hammers/Sledges

3. Whether the Application of Adverse Facts Available is Warranted for SMC's Axes/Adzes, Picks/Mattocks, and Bars/Wedges

4. Factory A's Unreported Factors of Production: Resin and Tape

5. Calculation of Hammer Weight Loss for SMC

6. Surrogate Value for Steel Bar

7. Surrogate Value for Steel Billet

8. Surrogate Value for Steel Scrap

9. Surrogate Value for Pallets

10. Truck Freight

11. The “Sigma” Rule/Inland Freight

12. Ocean Freight Rate

13. Tianjin Machinery Import & Export Corporation (“TMC”) Verification and Adjustment Issues

14. Preliminary Adjustments Noted in the Calculation Memorandums

[FR Doc. 00-17760 Filed 7-12-00; 8:45 am]

BILLING CODE 3510-DS-P